DEPARTMENT OF LABOR

Office of Workers' Compensation Programs

20 CFR Parts 702 and 703

RIN 1240-AA09

Longshore and Harbor Workers' Compensation Act: Transmission of Documents and Information

AGENCY: Office of Workers' Compensation Programs, Labor.

ACTION: Notice of proposed rulemaking; withdrawal.

SUMMARY: The Office of Workers' Compensation Programs (OWCP) published a notice of proposed rulemaking and companion direct final rule in the Federal Register on March 12, 2015, broadening the acceptable methods by which claimants, employers, and insurers can communicate with OWCP and each other regarding claims arising under the Longshore and Harbor Workers' Compensation Act and its extensions. The comment period closed on May 11, 2015. OWCP did not receive significant adverse comment and therefore the direct final rule took effect on June 10, 2015. For these reasons, OWCP is withdrawing the notice of proposed rulemaking.

DATES: Effective August 18, 2015, the notice of proposed rulemaking published on March 12, 2015 (80 FR 12957), is withdrawn.

FOR FURTHER INFORMATION CONTACT: Antonio Rios, Director, Division of Longshore and Harbor Workers' Compensation, Office of Workers' Compensation Programs, U.S. Department of Labor, Suite C-4319, 200 Constitution Avenue NW., Washington, DC 20210. Telephone: (202) 693-0038 (this is not a toll-free number). TTY/TDD callers may dial toll-free 1-877-889-5627 for further information.

SUPPLEMENTARY INFORMATION: On March 12, 2015, OWCP published a notice of proposed rulemaking revising 20 CFR parts 702 and 703 to broaden the acceptable methods by which claimants, employers, and insurers can communicate with OWCP and each other regarding claims arising under the Longshore and Harbor Workers' Compensation Act and its extensions. (80 FR 12957). On the same date, OWCP published a direct final rule containing identical revisions because it believed that the proposed revisions were non-controversial and unlikely to generate significant adverse comment. (80 FR 12917). OWCP indicated that if it did not receive any significant adverse comments on either rule by May 11, 2015, the direct final rule would take effect and there would be no further need to proceed with the notice of proposed rulemaking. (See 80 FR 12918, 12957-58).

OWCP received two public comments that were not significant adverse comments. One expressed support for the proposed rule and the other did not substantively address the rule. Because OWCP did not receive any significant adverse comments within the specified comment period, it is withdrawing the notice of proposed rulemaking with this notice. For the same reason, OWCP is also confirming that the direct final rule took effect on June 10, 2015.

Signed at Washington, DC, this 11th day of August, 2015.
Leonard J. Howie III,
Director, Office of Workers' Compensation Programs.

[FR Doc. 2015-20422 Filed 8-17-15; 8:45 am]

BILLING CODE 4510-CR-P